DEPARTMENT OF THE INTERIOR

Geological Survey

[GR12RB00CMFRM00]

Agency Information Collection Activities: Proposed Information Collection; Evaluating the Effectiveness of Yellowstone National Park Bear Safety Information

AGENCY: United States Geological Survey (USGS), Interior.

ACTION: Notice; request for comments.

SUMMARY: We (U.S. Geological Survey) will ask the Office of Management and Budget (OMB) to approve the information collection (IC) described below. As required by the Paperwork Reduction Act of 1995 (PRA), and as a part of our continuing efforts to reduce paperwork and respondent burden, we invite the general public and other Federal agencies to take this opportunity to comment on this IC. As a federal agency, we may not conduct or sponsor, and you are not required to respond to, a collection of information unless it displays a currently valid OMB control number.

DATES: To ensure your comments on this IC are considered, we must receive them on or before October 12, 2012.

ADDRESSES: Send your comments to the IC to the USGS Information Collection Clearance Officer, U.S. Geological Survey, 807 National Center, Reston, VA 20192 (mail); or smbaloch@usgs.gov (email). Please reference Information Collection 1028-New: Yellowstone Bears.

FOR FURTHER INFORMATION CONTACT: Leslie Richardson at U.S. Geological Survey, 2150 Centre Avenue, Bldg. C, Fort Collins, CO 80525 (mail), or at (970) 226-9181 (phone).

SUPPLEMENTARY INFORMATION:

I. Abstract

In 2011, two fatalities were caused by grizzly bears in Yellowstone National Park (YNP); the first bear-caused fatalities to occur within park boundaries in 25 years. As a result of these events, park managers are reviewing the effectiveness of bear safety messaging and its message delivery media to backcountry visitors. USGS social scientists and a NPS bear management biologist will use their combined expertise to conduct a social survey of backcountry visitors to YNP to help park managers achieve this review. The survey will identify the effectiveness of various bear safety information and education messages; the results will be used to direct future bear safety information and education efforts in YNP. No such prior analysis has been conducted in YNP.

II. Data

OMB Control Number: 1028-NEW.

Title: Evaluating the effectiveness of Yellowstone National Park bear safety information.

Type of Request: New collection.

Respondent's Obligation: Voluntary.

Frequency of Collection: One time only.

Estimated Number and Description of Respondents: 1500 backcountry visitors to YNP.

Estimated Total Annual Responses: 1500.

Estimated Time per Response: 30 minutes.

Estimated Total Annual Burden Hours: 750.

III. Request for Comments

We invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents, including the use of automated collection techniques or other forms of information technology.

Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: August 7, 2012.
David J. Newman,
Federal Register Liasion.

[FR Doc. 2012-19711 Filed 8-10-12; 8:45 am]

BILLING CODE 4311-AM-P